DEPARTMENT OF DEFENSE

Office of the Secretary

[Docket ID: DOD-2009-OS-0067]

Privacy Act of 1974; System of Records

AGENCY: Defense Information Systems Agency, DoD.

ACTION: Notice To Amend a System of Records.

SUMMARY: Defense Information Systems Agency proposes to amend a system of records notice in its existing inventory of records systems subject to the Privacy Act of 1974, (5 U.S.C. 552a), as amended.

DATES: This proposed action will be effective without further notice on June 15, 2009 unless comments are received which result in a contrary determination.

ADDRESSES: Send comments to the Defense Information Systems Agency, 5600 Columbia Pike, Room 933-I, Falls Church, VA 22041-2705.

FOR FURTHER INFORMATION CONTACT: Ms. Jeanette M. Weathers-Jenkins at (703) 681-2103.

SUPPLEMENTARY INFORMATION: The Defense Information Systems Agency systems of records notices subject to the Privacy Act of 1974, (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: May 12, 2009.
Morgan E. Frazier,
Alternate OSD Federal Register Liaison Officer, Department of Defense.

KEUR.08

System name:

Travel Order and Voucher File (February 22, 1993, 58 FR 10562).

Changes:

* * * * *

Authority for maintenance of the system:

Delete entry and replace with “Chapter 57, 5 U.S.C., Travel, Transportation, and Subsistence; 10 U.S.C. 133, Under Secretary of Defense for Acquisition and Technology; and E.O. 9397 (SSN).”

Purpose(s):

Delete entry and replace with “Records maintained by system manager for budget and accounting purposes to verify amounts actually spent for travel, and for control of accountability for travel orders issued by Defense Information Systems Agency (DISA) Europe.”

* * * * *

Storage:

Delete entry and replace with “Paper records in file folders and electronic storage media.”

Retrievability:

Delete entry and replace with “By travel order number.”

* * * * *

Retention and disposal:

Delete entry and replace with “Records may be temporary in nature and deleted when actions are completed, superseded, obsolete, or no longer needed. Some records may be cut off at the end of the fiscal year and destroyed 3 years after cutoff. Records are destroyed by degaussing.”

System manager(s) and address:

Delete entry and replace with “Chief, Management Support Division, Defense Information Systems Agency-Europe, APO AE, 09131-4103.”

Notification procedure:

Delete entry and replace with “Individuals seeking to determine whether information about themselves is contained in this system of records should address written inquiries to the Chief, Management Support Division, Defense Information Systems Agency-Europe, APO AE, 09131-4103.

Requests should contain individual's name, address, and phone number.”

Record access procedures:

Delete entry and replace with “Individuals seeking access to information about themselves contained in this system should address written inquiries to the Chief, Management Support Division, Defense Information Systems Agency-Europe, APO AE 09131-4103.

Requests should contain individual's name, address, and phone number.”

* * * * *

KEUR.08

System name:

Travel Order and Voucher File.

System location:

Management Support Division, Code DER, Defense Information Systems Agency-Europe, APO AE 09131-4103.

Categories of individuals covered by the system:

All personnel who perform official travel under orders issued by Defense Information Systems Agency (DISA) Europe.

Categories of records in the system:

Records in the system consist of travel orders, transportation requests, commercial carrier transportation tickets, travel advance vouchers, records of travel claims and payments. Data in the system includes the individual's name, Social Security Number, home phone and address, and other pertinent travel information.

Authority for maintenance of the system:

Chapter 57, 5 U.S.C., Travel, Transportation, and Subsistence; 10 U.S.C. 133, Under Secretary of Defense for Acquisition and Technology; and E.O. 9397 (SSN).

Purpose(s):

Records maintained by system manager for budget and accounting purposes to verify amounts actually spent for travel, and for control of accountability for travel orders issued by Defense Information Systems Agency (DISA) Europe.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the DISA's compilation of systems of records notices apply to this system.

Policies and practices for storing, retrieving, accessing, retaining, and disposing of records in the system:

Storage:

Paper records in file folders and electronic storage media.

Retrievability:

By travel order number.

Safeguards:

Records maintained in locked file containers accessible only to authorized personnel. Military police are posted at building entrance during duty hours.

Retention and disposal:

Records may be temporary in nature and deleted when actions are completed, superseded, obsolete, or no longer needed. Some records may be cut off at the end of the fiscal year and destroyed 3 years after cutoff. Records are destroyed by degaussing.

System manager(s) and address:

Chief, Management Support Division, Defense Information Systems Agency-Europe, APO AE 09131-4103.

Notification procedure:

Individuals seeking to determine whether information about themselves is contained in this system of records should address written inquiries to the Chief, Management Support Division, Defense Information Systems Agency-Europe, APO AE 09131-4103.

Requests should contain individual's name, address, and phone number.

Record access procedures:

Individuals seeking access to information about themselves contained in this system should address written inquiries to the Chief, Management Support Division, Defense Information Systems Agency-Europe, APO AE 09131-4103.

Requests should contain individual's name, address, and phone number.

Contesting record procedures:

DISA's rules for accessing records, for contesting contents and appealing initial agency determinations are published in DISA Instruction 210-225-2; 32 CFR part 316; or may be obtained from the system manager.

Record source categories:

Personal information is obtained from individual travelers and entered on the travel order form.

Exemptions claimed for the system:

None.

[FR Doc. E9-11352 Filed 5-14-09; 8:45 am]

BILLING CODE 5001-06-P